DEPARTMENT OF ENERGY

Federal Energy Regulatory Commission

Combined Notice of Filings #1

Take notice that the Commission received the following electric rate filings:

Docket Numbers: ER10-2042-032; ER10-1862-026; ER10-1877-006; ER10-1893-026; ER10-1934-026; ER10-1938-027; ER10-1942-024; ER10-2985-030; ER10-3049-031; ER10-3051-031; ER11-4369-011; ER16-2218-011; ER17-696-012.

Applicants: Calpine Energy Services, L.P., Calpine Construction Finance Company, LP, Calpine Energy Solutions, LLC, Calpine PowerAmerica—CA, LLC, CES Marketing IX, LLC, CES Marketing X, LLC, Champion Energy, LLC, Champion Energy Marketing LLC, Champion Energy Services, LLC, Hermiston Power, LLC, North American Power and Gas, LLC, North American Power Business, LLC, Power Contract Financing, L.L.C.

Description: Supplement to December 31, 2019 Updated Market Power Analysis of the Calpine Northwest MBR Sellers.

Filed Date: 6/2/20.

Accession Number: 20200602-5069.

Comments Due: 5 p.m. ET 6/23/20.

Docket Numbers: ER14-1818-020.

Applicants: Boston Energy Trading and Marketing LLC.

Description: Updated Market Power Analysis for the Northeast Region of Boston Energy Trading and Marketing LLC.

Filed Date: 6/1/20.

Accession Number: 20200601-5374.

Comments Due: 5 p.m. ET 7/31/20.

Docket Numbers: ER14-2798-015; ER18-494-004.

Applicants: Beech Ridge Energy II LLC, Beech Ridge Energy II Holdings LLC.

Description: Notification of Non-Material Change in Status of the BR Sellers.

Filed Date: 6/1/20.

Accession Number: 20200601-5366.

Comments Due: 5 p.m. ET 6/22/20.

Docket Numbers: ER15-1387-008.

Applicants: Appalachian Power Company, PJM Interconnection, L.L.C.

Description: Compliance filing: PJM TOs submit compliance filing per Commissions 4/3/2020 order in ER15-1387 to be effective 7/18/2016.

Filed Date: 6/2/20.

Accession Number: 20200602-5049.

Comments Due: 5 p.m. ET 6/23/20.

Docket Numbers: ER18-1314-006.

Applicants: PJM Interconnection, L.L.C.

Description: Compliance filing: Second Compliance in EL16-49 and EL18-178, Application of MOPR to be effective 12/31/9998.

Filed Date: 6/1/20.

Accession Number: 20200601-5193.

Comments Due: 5 p.m. ET 6/22/20.

Docket Numbers: ER19-1888-001.

Applicants: Southwest Power Pool, Inc.

Description: Compliance filing: Southwestern Public Service Company Formula Rate Compliance Filing to be effective 2/1/2019.

Filed Date: 5/29/20.

Accession Number: 20200529-5370.

Comments Due: 5 p.m. ET 6/19/20.

Docket Numbers: ER20-1642-000.

Applicants: Mariposa Energy, LLC.

Description: Supplement to April 23, 2020 Request for Waiver of Mariposa Energy, LLC.

Filed Date: 6/1/20.

Accession Number: 20200601-5371.

Comments Due: 5 p.m. ET 6/8/20.

Docket Numbers: ER20-1956-000.

Applicants: Liberty Utilities (Granite State Electric) Corp.

Description: § 205(d) Rate Filing: Borderline Sales Rate Sheet Update 2020 to be effective 5/1/2020.

Filed Date: 6/1/20.

Accession Number: 20200601-5198.

Comments Due: 5 p.m. ET 6/22/20.

Docket Numbers: ER20-1957-000.

Applicants: Gulf Power Company.

Description: Compliance filing: Order No. 864 Compliance Filing to be effective 1/27/2020.

Filed Date: 6/1/20.

Accession Number: 20200601-5201.

Comments Due: 5 p.m. ET 6/22/20.

Docket Numbers: ER20-1958-000.

Applicants: Puget Sound Energy, Inc.

Description: Compliance filing: Order 864 Compliance Filing to be effective 1/27/2020.

Filed Date: 6/1/20.

Accession Number: 20200601-5208.

Comments Due: 5 p.m. ET 6/22/20.

Docket Numbers: ER20-1960-000.

Applicants: Tampa Electric Company.

Description: § 205(d) Rate Filing: Section 205 Transmission Energy Storage Depreciation Filing—2020 to be effective 5/15/2020.

Filed Date: 6/2/20.

Accession Number: 20200602-5027.

Comments Due: 5 p.m. ET 6/23/20.

Docket Numbers: ER20-1961-000.

Applicants: Southwest Power Pool, Inc.

Description: Compliance filing: NorthWestern Formula Rate Revisions to Incorporate Changes filed in ER20-1090 to be effective 1/27/2020.

Filed Date: 6/2/20.

Accession Number: 20200602-5028.

Comments Due: 5 p.m. ET 6/23/20.

Docket Numbers: ER20-1963-000.

Applicants: Nevada Power Company.

Description: § 205(d) Rate Filing: Service Agreement 19-00061 to be effective 8/2/2020.

Filed Date: 6/2/20.

Accession Number: 20200602-5034.

Comments Due: 5 p.m. ET 6/23/20.

Docket Numbers: ER20-1964-000.

Applicants: Midcontinent Independent System Operator, Inc., MidAmerican Energy Company.

Description: § 205(d) Rate Filing: 2020-06-02_MidAmerican Energy Company filing Att O to be effective 8/1/2020.

Filed Date: 6/2/20.

Accession Number: 20200602-5039.

Comments Due: 5 p.m. ET 6/23/20.

Docket Numbers: ER20-1965-000.

Applicants: Versant Power.

Description: § 205(d) Rate Filing: MBR Notice of Succession to Versant Power to be effective 5/11/2020.

Filed Date: 6/2/20.

Accession Number: 20200602-5062.

Comments Due: 5 p.m. ET 6/23/20.

Docket Numbers: ER20-1967-000.

Applicants: ISO New England Inc., New England Power Pool Participants Committee.

Description: § 205(d) Rate Filing: ISO-NE & NEPOOL; Energy Efficiency Treatment During Capacity Scarcity Conditions to be effective 8/1/2020.

Filed Date: 6/2/20.

Accession Number: 20200602-5067.

Comments Due: 5 p.m. ET 6/23/20.

Docket Numbers: ER20-1968-000.

Applicants: Alkali Solar LLC.

Description: Baseline eTariff Filing: Baseline new SFA Tap Line to be effective 6/3/2020.

Filed Date: 6/2/20.

Accession Number: 20200602-5080.

Comments Due: 5 p.m. ET 6/23/20.

Docket Numbers: ER20-1969-000.

Applicants: Alkali Solar LLC.

Description: § 205(d) Rate Filing: Normal SFA to be effective 6/3/2020.

Filed Date: 6/2/20.

Accession Number: 20200602-5083.

Comments Due: 5 p.m. ET 6/23/20.

Docket Numbers: ER20-1970-000.

Applicants: Diamond Spring, LLC.

Description: Baseline eTariff Filing: Diamond Spring MBR Application to be effective 8/1/2020.

Filed Date: 6/2/20.

Accession Number: 20200602-5084.

Comments Due: 5 p.m. ET 6/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2020.
Nathaniel J. Davis, Sr.,
Deputy Secretary.

[FR Doc. 2020-12325 Filed 6-5-20; 8:45 am]

BILLING CODE 6717-01-P